OFFICE OF MANAGEMENT AND BUDGET

Compliance Assistance Resources and Points of Contact Available to Small Businesses

AGENCY: Office of Management and Budget, Executive Office of the President.

ACTION: Notice.

SUMMARY: In accordance with the Small Business Paperwork Relief Act of 2002 (44 U.S.C. 3520), the Office of Management and Budget (OMB) is publishing a “list of the compliance assistance resources available to small businesses” and a list of the points of contacts in agencies “to act as a liaison between the agency and small business concerns” with respect to the collection of information and the control of paperwork. This information is posted on the following Web site: http://www.business.gov/business-law/contacts/federal/

FOR FURTHER INFORMATION CONTACT: Wendy Liberante, Office of Information and Regulatory Affairs, Office of Management and Budget, E-mail: wliberante@omb.eop.gov, Telephone: (202) 395-3647. Inquiries may be submitted by facsimile to (202) 395-5167.

SUPPLEMENTARY INFORMATION: The Small Business Paperwork Relief Act of 2002 (Pub. L. 107-198) requires OMB to “publish in the Federal Register and make available on the Internet (in consultation with the Small Business Administration) on an annual basis a list of the compliance assistance resources available to small businesses” (44 U.S.C. 3504(c)(6)). OMB has, with the active assistance and support of the Small Business Administration (SBA) and Business.gov, assembled a list of the compliance assistance resources available to small businesses. This list is available today on the following Web site: http://www.business.gov/business-law/contacts/federal/. There is also a link to this information on the OMB Web site.

In addition, under another provision of this Act, “each agency shall, with respect to the collection of information and the control of paperwork, establish 1 point of contact in the agency to act as a liaison between the agency and small business concerns” (44 U.S.C. 3506(i)(1)). These contacts are also available at http://www.business.gov/business-law/contacts/federal/.

OMB and SBA have chosen to implement this statutory responsibility by publishing agency compliance contact information on Business.gov Web site. Business.gov delivers compliance information to the public more effectively than having businesses go to individual agency Web sites, thereby improving the probability of success for business owners and agency regulatory programs. The public is not only able to find agency points of contact for compliance under the “contacts and help” tab on Business.gov, but when users look for information in the “small business guides” on particular topics, the relevant agency points of contact automatically appear as part of the guide.

Cass Sunstein,
Administrator, Office of Information and Regulatory Affairs.

[FR Doc. 2010-18957 Filed 8-2-10; 8:45 am]

BILLING CODE P